DEPARTMENT OF COMMERCE

International Trade Administration

[A-570-970]

Multilayered Wood Flooring From the People's Republic of China: Preliminary Results of Antidumping Duty Administrative Review; 2011-2012

AGENCY: Enforcement and Compliance, formerly Import Administration, International Trade Administration, Department of Commerce.

SUMMARY: The Department of Commerce (“the Department”) is conducting an administrative review of the antidumping duty order on multilayered wood flooring (“MLWF”) from the People's Republic of China (“PRC”). The period of review (“POR”) is May 26, 2011, through November 30, 2012. We have preliminarily found that three respondents, Armstrong Wood Products (Kunshan) Co., Ltd. (“Armstrong”), Fine Furniture (Shanghai) Limited (“Fine Furniture”) and Zhejiang Layo Wood Industry Co., Ltd. (“Layo Wood”), have made sales of subject merchandise at less than normal value (“NV”), while another respondent, Nanjing Minglin Wooden Industry Co. Ltd. (“Minglin”) has not made sales of subject merchandise at less than normal value (“NV”).

DATES: Effective Date: November 25, 2013.

FOR FURTHER INFORMATION CONTACT: James Martinelli, Lilit Astvatsatrian or Magd Zalok, AD/CVD Operations, Office IV, Enforcement and Compliance, International Trade Administration, Department of Commerce, 1401 Constitution Avenue NW., Washington, DC 20230; telephone: (202) 482-2923, (202) 482-6412 or (202) 482-4162, respectively.

SUPPLEMENTARY INFORMATION:

Scope of the Order

The merchandise covered by the order includes MLWF, subject to certain exceptions.¹ Imports of the subject merchandise are provided for under the following subheadings of the HTSUS: 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.²

¹ See Memorandum from Christian Marsh, Deputy Assistant Secretary for Antidumping and Countervailing Duty Operations to Paul Piquado, Assistant Secretary for Enforcement & Compliance, dated concurrently with this notice, regarding “Decision Memorandum for Preliminary Results of 2011-2012 Antidumping Duty Administrative Review: Multilayered Wood Flooring from the People's Republic of China,” issued concurrently with this notice for a complete description of the Scope of the Order.

² On August 28, 2013, in consultation with CBP, the Department added the following HTSUS classification to the AD/CVD module for wood flooring: 9801.00.2500. See Letter to the File from Lilit Astvatsatrian, Case Analyst, Enforcement and Compliance, Office IV, regarding “Multilayered Wood Flooring from the PRC, Modification of the Case Reference File in ACE,” (November 18, 2013).

While HTSUS subheadings are provided for convenience and customs purposes, the written description of the subject merchandise is dispositive.

Tolling of Deadlines for Preliminary Results

As explained in the memorandum from the Assistant Secretary for Enforcement and Compliance, the Department has exercised its discretion to toll deadlines for the duration of the closure of the Federal Government from October 1, through October 16, 2013.³ Therefore, all deadlines in this segment of the proceeding have been extended by 16 days. If the new deadline falls on a non-business day, in accordance with the Department's practice, the deadline will become the next business day. The revised deadline for the preliminary results of this review is now November 18, 2013.

³ See Memorandum for the Record from Paul Piquado, Assistant Secretary for Enforcement and Compliance, “Deadlines Affected by the Shutdown of the Federal Government” (October 18, 2013).

Methodology

The Department has conducted this review in accordance with section 751(a)(1)(B) of the Tariff Act of 1930, as amended (“the Act”). Export prices and constructed export prices have been calculated in accordance with section 772 of the Act. Because the PRC is a non-market economy (“NME”) within the meaning of section 771(18) of the Act, NV has been calculated in accordance with section 773(c) of the Act.

For a full description of the methodology underlying our conclusions, please see the Preliminary Decision Memorandum, hereby adopted by this notice. The Preliminary Decision Memorandum is a public document and is on file electronically via Enforcement and Compliance's Antidumping and Countervailing Duty Centralized Electronic Service System (“IA ACCESS”). IA ACCESS is available to registered users at http://iaaccess.trade.gov. The Preliminary Decision Memorandum is also available in the Central Records Unit, room 7046 of the main Department of Commerce building. In addition, a complete version of the Preliminary Decision Memorandum can be accessed directly at http://enforcement.trade.gov/frn. The signed Preliminary Decision Memorandum and the electronic versions of the Preliminary Decision Memorandum are identical in content.

Preliminary Results of Review

The Department preliminarily determines that the following weighted-average dumping margins exist: ⁴

⁴ In addition to the companies listed in the table, the following companies submitted information on the record demonstrating that they did not ship subject merchandise to the United States during the POR. The Department confirmed their certification of no shipment with CBP; therefore, the following companies will maintain their rate from the investigation: Changzhou Hawd Flooring Co., Ltd.; Dalian Jiuyuan Wood Industry Co., Ltd.; Jiaxing Brilliant Import & Export Co. Ltd..; Polywell Global Limited; and Vicwood Industry (Suzhou) Co., Ltd.

⁵ The following companies are collectively known as The Fusong Jinlong Group (“Fusong Jinlong Group”): Dalian Qianqiu Wooden Product Co., Ltd.; Fusong Jinlong Wooden Group Co., Ltd.; Fusong Jinqiu Wooden Product Co., Ltd.; and Fusong Qianqiu Wooden Products Co., Ltd.

Exporter | Weighted-average dumping margin (percent)
Minglin | 0.00 (de minimis)
Fine Furniture | 0.67
Layo Wood | 8.85
Armstrong | 8.87
Anhui Longhua Bamboo Product Co., Ltd | 4.77
A&W (Shanghai) Woods Co., Ltd | 4.77
Baishan Huafeng Wood Product Co., Ltd | 4.77
Benxi Wood Company | 4.77
Changbai Mountain Development and Protection Zone Hongtu Wood Industry Co., Ltd | 4.77
Chinafloors Timber (China) Co., Ltd | 4.77
Dalian Dajen Wood Co., Ltd | 4.77
Dalian Huilong Wooden Products Co., Ltd | 4.77
Dalian Kemian Wood Industry Co., Ltd | 4.77
Dalian Penghong Floor Products Co., Ltd | 4.77
Dasso Industrial Group Co., Ltd | 4.77
Dontai Fuan Universal Dynamics, LLC | 4.77
Dunhua City Hongyuan Wood Industry Co., Ltd | 4.77
Dunhua City Jisen Wood Industry Co., Ltd | 4.77
Dunhua City Wanrong Wood Industry Co., Ltd | 4.77
Dunhua Dexin Wood Industry Co., Ltd | 4.77
Dun Hua Sen Tai Wood Co., Ltd | 4.77
Fujian Wuyishan Werner Green Industry Co., Ltd | 4.77
Fusong Jinlong Wooden Group ⁵ | 4.77
GTP International | 4.77
Guangdong Fu Lin Timber Technology Limited | 4.77
Guangdong Yihua Timber Industry Co., Ltd | 4.77
Guangzhou Panyu Kangda Board Co., Ltd | 4.77
Guangzhou Panyu Southern Star Co., Ltd | 4.77
HaiLin LinJing Wooden Products, Ltd | 4.77
Hangzhou Hanje Tec Co., Ltd | 4.77
Hunchun Forest Wolf Wooden Industry Co., Ltd | 4.77
Huzhou Chenghang Wood Co., Ltd | 4.77
Huzhou Fulinmen Imp & Emp. Co., Ltd | 4.77
Huzhou Jensonwood Co., Ltd | 4.77
Huzhou Sunergy World Trade Co., Ltd | 4.77
Jianfeng Wood (Suzhou) Co., Ltd | 4.77
Jiangsu Senmao Bamboo and Wood Industry Co., Ltd | 4.77
Jiangsu Simba Flooring Co., Ltd | 4.77
JiaShan FengYun Timber Company Ltd | 4.77
Jiashan HuiJiaLe Decoration Material Co., Ltd | 4.77
Jiaxing Hengtong Wood Co., Ltd | 4.77
Jilin Forest Industry Jinqiao Flooring Group Co., Ltd | 4.77
Jilin Xinyuan Wooden Industry Co., Ltd | 4.77
Karly Wood Product Limited | 4.77
Kemian Wood Industry (Kunshan) Co., Ltd | 4.77
Kunming Alston (AST) Wood Products Co., Ltd | 4.77
Kunshan Yingyi-Nature Wood Industry Co., Ltd | 4.77
Metropolitan Hardwood Floors, Inc | 4.77
Mudanjiang Bosen Wood Industry Co., Ltd | 4.77
Nakahiro Jyou Sei Furniture (Dalian) Co., Ltd | 4.77
Pinge Timber Manufacturing (Zhejiang) Co., Ltd | 4.77
Puli Trading Limited | 4.77
Samling Group ⁶ | 4.77
Scholar Home (Shanghai) New Material Co. Ltd | 4.77
Shanghai Eswell Timber Co., Ltd | 4.77
Shanghai Lairunde Wood Co., Ltd | 4.77
Shanghai Lizhong Wood Products Co., Ltd/The Lizhong Wood Industry Limited Company of Shanghai | 4.77
Shanghai New Sihi Wood Co., Ltd | 4.77
Shanghai Shenlin Corp | 4.77
Shenyang Senwang Wooden Industry Co., Ltd | 4.77
Shenzhenshi Huanwei Woods Co., Ltd | 4.77
Suzhou Dongda Wood Co., Ltd | 4.77
Xiamen Yung De Ornament Co., Ltd | 4.77
Xuzhou Shenghe Wood Co., Ltd | 4.77
Yixing Lion-King Timber Industry Co., Ltd | 4.77
Zhejiang Biyork Wood Co., Ltd | 4.77
Zhejiang Dadongwu Greenhome Wood Co., Ltd | 4.77
Zhejiang Desheng Wood Industry Co., Ltd | 4.77
Zhejiang Fudeli Timber Industry Co., Ltd | 4.77
Zhejiang Fuma Warm Technology Co., Ltd | 4.77
Zhejiang Longsen Lumbering Co., Ltd | 4.77
Zhejiang Shiyou Timber Co., Ltd | 4.77
Zhejiang Tianzhen Bamboo & Wood Development Co., Ltd | 4.77
Zhejiang Yongyu Bamboo Joint-Stock Co., Ltd | 4.77
PRC-Wide Entity ⁷ | 58.84

Disclosure and Public Comment

The Department intends to disclose calculations performed for these preliminary results to the parties within five days of the date of publication of this notice.⁸ Interested parties may submit a case brief no later than 30 days after the date of publication of these preliminary results of review.⁹ Rebuttal briefs may be filed no later than five days after case briefs are filed and may respond only to arguments raised in the case briefs.¹⁰ A table of contents, list of authorities used and an executive summary of issues should accompany any briefs submitted to the Department. This summary should be limited to five pages total, including footnotes. Interested parties who wish to request a hearing, or to participate if one is requested, must submit a written request to the Assistant Secretary for Enforcement and Compliance, U.S. Department of Commerce, within 30 days after the date of publication of this notice.¹¹ Requests should contain the party's name, address, and telephone number, the number of participants, and a list of the issues to be discussed. If a request for a hearing is made, the Department intends to hold the hearing at the U.S. Department of Commerce, 14th Street and Constitution Avenue NW., Washington, DC 20230, at a time to be determined.¹² Parties should confirm by telephone the date, time, and location of the hearing two days before the scheduled date.

⁶ The following companies are collectively known as The Samling Group (“Samling Group”): Baroque Timber Industries (Zhongshan) Co., Ltd.; Riverside Plywood Corporation; Samling Elegant Living Trading (Labuan) Limited; Samling Global USA, Inc.; and Samling Riverside Co., Ltd. Additionally, Power Dekor Group Co., Ltd. (“Power Dekor”) did not have any qualifying shipments for the Department to review, due to their one shipment undergoing review during Power Dekor's New Shipper Review. Power Dekor will therefore maintain the dumping margin that was assessed as a result of the New Shipper Review.

⁷ The following companies were named in the Initiation Notice but did not submit a certification of no shipment, separate rate application or separate rate certification; therefore they constitute the PRC-wide entity: Baiying Furniture Manufacturer Co., Ltd.; Dazhuang Floor Co. (dba Dasso Industrial Group Co., Ltd.); Fu Lik Timber (HK) Co., Ltd.; Furnco International (HK) Company Limited; Fusong Qianqiu Wooden Group Co., Ltd.; Guangdong Jiasheng Timber Industry Co., Ltd.; Guanghzhou Panyu Shatou Trading Co., Ltd.; Huzhou Fuma Wood Bus. Co., Ltd.; Jiazing Brilliant Import & Export Co., Ltd.; Puli Trading Co., Ltd.; Sennorwell International Group (Hong Kong) Limited; Shanghai Demeijia Wooden Co., Ltd.; Shenyang Haobainian Wood Co .; Shenyang Sende Wood Co., Ltd.; Suzhou Anxin Weiguang Timber Co., Ltd.; Xinyuan Wooden Industry Co., Ltd.; Yekalon Industry, Inc.; Zhejiang AnJi XinFeng Bamboo & Wood Co., Ltd.; Zhejiang Haoyun Wood Co., Ltd.; Zhejiang Jeson Wood Co., Ltd.; and Zhejiang Jiechen Wood Industry Co., Ltd. See Initiation of Antidumping and Countervailing Duty Administrative Reviews and Request for Revocation in Part, 78 FR 6291 (January 30, 2013); see also Initiation of Antidumping and Countervailing Duty Administrative Reviews and Request for Revocation in Part, 78 FR 13633 (February 28, 2013) (“Initiation Notice”).

⁸ See 19 CFR 351.224(b).

⁹ See 19 CFR 351.309(c).

¹⁰ See 19 CFR 351.309(d).

¹¹ See 19 CFR 351.310(c).

¹² See 19 CFR 351.310(d).

All submissions, with limited exceptions, must be filed electronically using IA ACCESS. An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.¹³

¹³ See Antidumping and Countervailing Duty Proceedings: Electronic Filing Procedures; Administrative Protective Order Procedures, 76 FR 39263 (July 6, 2011).

The Department intends to issue the final results of this administrative review, which will include the results of its analysis of issues raised in any briefs, within 120 days of publication of these preliminary results, pursuant to section 751(a)(3)(A) of the Act.

Deadline for Submission of Publicly Available Surrogate Value Information

In accordance with 19 CFR 351.301(c)(3)(ii), the deadline for submission of publicly available information to value factors of production under 19 CFR 351.408(c) is 20 days after the date of publication of the preliminary results.¹⁴ In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.¹⁵ Furthermore, the Department generally will not accept business proprietary information in either the surrogate value submissions or the rebuttals thereto, as the regulation regarding the submission of surrogate values allows only for the submission of publicly available information.¹⁶

¹⁴ The Department recently announced a change in the deadline to submit publicly available information to value factors of production under 19 CFR 351.301(c)(3)(ii). To all segments initiated on or after May 10, 2013, the deadline to submit publicly available information to value factors of production in an administrative review is 30 days prior to the scheduled preliminary results of review. This change will not apply to the first administrative review of wood flooring due to the effective date. See Definition of Factual Information and Time Limits for Submission of Factual Information, 78 FR 21246 (April 10, 2013).

¹⁵ See Glycine from the People's Republic of China: Final Results of Antidumping Duty Administrative Review and Final Rescission, in Part, 72 FR 58809 (October 17, 2007), and accompanying Issues and Decision Memorandum at Comment 2.

¹⁶ See 19 CFR 351.301(c)(3).

Assessment Rates

Upon issuance of the final results, the Department will determine, and U.S. Customs and Border Protection (“CBP”) shall assess, antidumping duties on all appropriate entries covered by this review.¹⁷ The Department intends to issue assessment instructions to CBP 15 days after the publication date of the final results of this review. For any individually examined respondent whose weighted-average dumping margin is above de minimis (i.e., 0.50 percent) in the final results of this review, the Department will calculate an importer-specific assessment rate on the basis of the ratio of the total amount of antidumping duties calculated for the importer's examined sales and the total entered value of sales, in accordance with 19 CFR 351.212(b)(1). In these preliminary results, the Department applied the assessment rate calculation method adopted in the Final Modification for Reviews.¹⁸ Where either the respondent's weighted-average dumping margin is zero or de minimis, or an importer- (or customer-) specific assessment rate is zero or de minimis, we will instruct CBP to liquidate the appropriate entries without regard to antidumping duties. We intend to instruct CBP to liquidate entries containing subject merchandise exported by the PRC-wide entity at the PRC-wide rate we determine in the final results of this review.

¹⁷ See 19 CFR 351.212(b)(1).

¹⁸ See Antidumping Proceeding Calculation of the Weighted-Average Dumping Margin and Assessment Rate in Certain Antidumping Duty Proceedings; Final Modification, 77 FR 8101 (February 14, 2012) (“Final Modification for Reviews.”).

The Department announced a refinement to its assessment practice in NME antidumping duty cases.¹⁹ Pursuant to this refinement in practice, for merchandise that was not reported in the U.S. sales databases submitted by an exporter individually examined during this review, but that entered under the case number of that exporter (i.e., at the individually-examined exporter's cash deposit rate), the Department will instruct CBP to liquidate such entries at the PRC-wide rate. Additionally, pursuant to this refinement, if the Department determines that an exporter under review had no shipments of the subject merchandise, any suspended entries that entered under that exporter's case number will be liquidated at the PRC-wide rate.

¹⁹ See Non-Market Economy Antidumping Proceedings: Assessment of Antidumping Duties, 76 FR 65694 (October 24, 2011), for a full discussion of this practice.

Cash Deposit Requirements

The following cash deposit requirements will be effective upon publication of the final results of this administrative review for shipments of the subject merchandise from the PRC entered, or withdrawn from warehouse, for consumption on or after the publication date, as provided by sections 751(a)(2)(C) of the Act: (1) For the companies listed above the cash deposit rate will be their respective rate established in the final results of this review, except if the rate is zero or de minimis (i.e., less than 0.5 percent) no cash deposit will be required; (2) for previously investigated PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties. We are issuing and publishing these results in accordance with sections 751(a)(1) and 777(i)(1) of the Act and 19 CFR 351.213.

Dated: November 18, 2013.
Paul Piquado,
Assistant Secretary for Enforcement and Compliance.

Appendix—List of Topics Discussed in the Preliminary Decision Memorandum

1. Background

2. Scope of the Order

3. Selection of Respondents

4. Non-Market Economy Country

5. Separate Rate

6. Surrogate Country and Surrogate Value Data

7. Fair Value Comparisons

8. U.S. Price

9. Normal Value

10. Currency Conversion

[FR Doc. 2013-28100 Filed 11-22-13; 8:45 am]

BILLING CODE 3510-DS-P